DEPARTMENT OF HOMELAND SECURITY

Coast Guard

[CGD08-05-055]

Realignment of District Eight Sector Boundaries

AGENCY: Coast Guard, DHS.

ACTION: Notice.

SUMMARY: The Coast Guard announces that the Eighth Coast Guard District is realigning the boundaries of sectors to facilitate unity of operational effort.

DATES: This notice is effective December 31, 2005.

ADDRESSES: Documents indicated in this preamble as being available in the docket are part of docket CGD08-05-055 and are available for inspection or copying at Commander (rpl), Eighth Coast Guard District, 500 Poydras Street, New Orleans, Louisiana 70130-3310 between 7:30 a.m. and 4:30 p.m., Monday through Friday, except Federal holidays.

FOR FURTHER INFORMATION CONTACT: If you have questions on this notice, call Lieutenant Michael Roschel, Eighth District Planning Office at 504-589-6293.

SUPPLEMENTARY INFORMATION:

Discussion of Notice

The Eighth District of United States Coast Guard is realigning the boundaries of its sectors to facilitate integration of field units into a structure that will enhance our ability to perform prevention, compliance, and response operations. The sectors that will be realigned are Sector Corpus Christi, Sector Houston-Galveston, Sector New Orleans, Sector Mobile, Sector Lower Mississippi River, and Sector Ohio Valley. In addition the boundaries of Marine Safety Office St. Louis will be modified. This spring Marine Safety Office St. Louis will become Sector Upper Mississippi River. Once Sector Upper Mississippi River is commissioned it will assume responsibility for the area covered by the Marine Safety Office St. Louis. The Boundary changes are being done because the implementation of sectors has created a need for new geographical boundaries. The change will allow better organizational control under the new sector model.

The new Sector Corpus Christi Inspection Zone, Captain of the Port Zone, and Area of Responsibility starts at the junction of the sea and the east bank of the Colorado River; thence proceeds northerly along the east bank of the Colorado River to Colorado County, Texas; thence northeasterly along the northern boundary of Wharton County, Texas; thence northwesterly along the eastern and northern boundaries of Colorado, Fayette, Bastrop, Travis, Burnet, Llano, Mason, Menard, Schletcher, Irion, Reagan, Upton, and Ector Counties, Texas; thence westerly along the northern boundary of Ector and Winkler Counties, Texas to the Texas-New Mexico border; thence northerly along the New Mexico Border to the New Mexico-Colorado border; thence westerly along the New Mexico-Colorado border to the intersection of New Mexico, Colorado, Utah and Arizona borders; thence southerly along the New Mexico-Arizona border to the United States-Mexican border; thence southeasterly along the United States-Mexican border to the sea. The offshore area includes all waters and islands contained therein of the EEZ that are south and west of a line bearing 140°T from the junction of the sea and the east bank of the Colorado River to the outermost extent of the EEZ.

The new Sector Houston-Galveston Inspection Zone, Captain of the Port Zone, and Area of Responsibility will contain a sub-zone within its boundary description described below which will be the Marine Safety Unit Port Arthur sub-zone described in the next paragraph; however, Sector Houston-Galveston's boundary starts at the intersection of the sea and longitude 92°37′ W; thence northerly along the eastern and southern boundaries of Cameron, Jefferson Davis, Allen, and Rapides Parishes, Louisiana to the southern bank of the Red River; thence northwesterly along the south bank of the Red River to the northern boundary of Red River Parish, Louisiana; thence westerly along the northern boundary of Red River Parish and Desoto Parish, Louisiana to the Louisiana-Texas border; thence northerly along the Louisiana-Texas border to the Texas-Arkansas border at the northern boundary of Bowie County, Texas; following the Texas-Arkansas border to the Texas-Oklahoma border; thence northwesterly along the Texas-Oklahoma border, including the Red River to Lake Texoma in Grayson County, Texas; thence westerly along the north shore of Lake Texoma to the Texas-Oklahoma border; thence westerly along the Texas-Oklahoma border to the Texas-New Mexico border, including all portions of the Red River; thence southerly along the Texas-New Mexico border to the southern boundary of Andrews County, Texas; thence southeasterly along the western and southern boundaries of Andrews, Midland, Glasscock, Sterling, Tom Green, Concho, McCulloch, San Saba, Lampasas, Bell, Williamson, Lee, Washington, Austin Counties, Texas to the intersection of Colorado County, Texas; thence along the northern and eastern boundary of Colorado County to the east bank of the Colorado River; thence southerly along the east bank of the Colorado River to the sea; thence southeasterly along a line bearing 140° T to the outermost extent of the EEZ; thence easterly along the outermost extent of the EEZ to longitude 92°37′ W; thence northerly along longitude 92°37′ W to the Louisiana Coast.

The new Port Arthur Inspection Zone, Captain of the Port Zone, and Area of Responsibility starts at the intersection of the sea and longitude 92°37′ W; thence northerly along the eastern and southern boundaries of Cameron, Jefferson Davis, Allen, and Rapides Parishes, Louisiana to the southern bank of the Red River; thence northwesterly along the southern bank of the Red River to the northern boundary of Red River Parish, Louisiana; thence westerly along the northern boundary of Red River Parish and Desoto Parish, Louisiana to the Louisiana-Texas border; thence northerly along the Louisiana-Texas border to the Texas-Arkansas border at the northern boundary of Bowie County, Texas; thence northerly along the Texas-Arkansas border to the Texas-Oklahoma border; thence westerly along the Texas-Oklahoma border to the northwest most boundary of Fannin County, Texas, including all portions of the Red River; thence southerly along the western and southern boundaries of Fannin, Hunt, Kaufman, Henderson, Anderson, Houston, Trinity, Polk, Hardin, and Jefferson Counties, Texas to the sea at longitude 94°25′ W; thence southeasterly to latitude 29°00′ N, longitude 93°40′ W; thence southeasterly to latitude 27°50′ N, longitude 93°24′ W; thence southerly along longitude 93°24′ W to the outermost extent of the EEZ; thence easterly along the outer most extent of the EEZ to longitude 92°37′ W; thence northerly along longitude 92°37′ W to the Louisiana Coast.

The new Sector New Orleans Inspection Zone, Captain of the Port Zone, and Area of Responsibility will contain a sub-zone within its boundary description described below which will be the Marine Safety Unit Morgan City sub-zone described in the next paragraph; however, Sector New Orleans boundary starts at latitude 30°10′ N, longitude 89°10′ W; thence west along latitude 30°10′ N to longitude 89°31.8′ W; thence north along longitude 89°31.8′ W to the west bank of the Pearl River (at the mouth of the river); thence northerly along the west bank of the Pearl River to latitude 31°00′ N; thence due west along latitude 31°00′ N to the east bank of the Mississippi River; thence southerly along the east bank to mile 303.0, thence westerly to the west bank at mile 303.0; thence northerly to the southern boundary of the Old River Lock Structure, thence westerly along the south bank of the Lower Old River, to the intersection with the Red River; thence west along the south bank of the Red River to Rapides Parish, thence southerly along the western boundaries of Avoyelles, Evangeline, Acadia and Vermillion Parishes to the intersection of the sea and longitude 92°37′ W; thence southerly along longitude 92°37′ W to the outermost extent of the EEZ; thence easterly along the outermost extent of the EEZ to longitude 88°00′ W; thence northerly along longitude 88°00′ W to latitude 29°00′ N; thence northwesterly to latitude 30°10′ N, longitude 89°10′ W.

The new Marine Safety Unit Morgan City Inspection Zone, Captain of the Port Zone, and Area of Responsibility starts at latitude 28°50′ N., longitude 88°00′ W.; thence proceeds west to latitude 28°50′ N., longitude 89°27′06″ W.; thence northwesterly to latitude 29°18′ N., longitude 90°00′ W.; thence northwesterly along the northern boundaries of Lafourche, Assumption, Iberia, and St. Martin Parishes, Louisiana; thence northwesterly along the northern boundary of Lafayette and Acadia Parishes, Louisiana; thence southerly along the west boundary of Acadia and Vermillion Parishes, Louisiana to the Louisiana Coast at longitude 92°37′ W., thence south along longitude 92°37′ W. to the outermost extent of the EEZ; thence easterly along the outermost extent of the EEZ to longitude 88°00′ W.; thence north to latitude 28°50′ N., longitude 88°00′ W.

The new Sector Mobile Inspection Zone, Captain of the Port Zone, and Area of Responsibility starts at the Florida coast at longitude 83°50′ W; thence northerly to latitude 30°15′ N, longitude 83°50′ W; thence due west to latitude 30°15′ N, longitude 84°45′ W; thence due north to the southern bank of the Jim Woodruff Reservoir at longitude 84°45′ W; thence northeasterly along the eastern bank of the Jim Woodruff Reservoir and northerly along the eastern bank of the Flint River to latitude 32°20′ N, longitude 84°02′ W; thence northwesterly to the intersection of the Georgia-Alabama border at latitude 32°53′ N; thence northerly along the Georgia-Alabama border to the northern most point of Dekalb County, Alabama, thence westerly along the northern boundaries of Dekalb, Etowah, Blount, Cullman, Winston, Franklin Counties, Alabama to the Mississippi-Alabama border; thence north along the Mississippi-Alabama border to the northern boundary of Tishomingo County, Mississippi at the Mississippi-Tennessee border; thence west along the northern boundaries of Tishomingo, Alcorn, Tippah, Benton and Marshall Counties, Mississippi, thence southerly and westerly along the eastern and southern boundaries of Desoto, Tunica, Coahoma, Bolivar, Washington Counties, Mississippi; thence easterly along the northern boundary of Humphreys and Holmes Counties, Mississippi, thence southerly along the eastern and southern boundaries of Holmes, Yazoo, Warren, Claiborne, Jefferson Adams and Wilkinson Counties, Mississippi; thence due east along latitude 31°00′ N from the southern most intersection of Wilkinson and Amite Counties, Mississippi to the west bank of the Pearl River; thence southerly along the west bank of the Pearl River to longitude 89°31.8′ W (at the mouth of the river); thence south along longitude 89°31.8′ W to latitude 30°10′ N; thence east along latitude 30°10′ N to longitude 89°10′ W; thence southeasterly to latitude 29°00′ N, longitude 88°00′ W; thence south along longitude 88°00′ W to the outermost extent of the EEZ; thence easterly along the outermost extent of the EEZ to the intersection with a line bearing 199°T from the intersection of the Florida coast at longitude 83°50′ W; thence northeasterly along a line bearing 199°T from the Florida coast at longitude 83°50′ W to the coast.

The new Sector Lower Mississippi River Inspection Zone, Captain of the Port Zone, and Area of Responsibility starts with all of Arkansas and all of Oklahoma with the exception of the Red River and Lake Texoma. In Missouri: Dunklin and Pemiscot Counties. In Tennessee: Dyer, Lauderdale, Obion, Tipton, and Shelby Counties; and all portions of Lake County with the exception of the area North and West of a line drawn from Mississippi River at Latitude 36°20′ N and Longitude 89°32′30″ W due East to Highway 78 thence NE along Highway 78 to the Kentucky/Tennessee state line. In Mississippi: Desoto, Tunica, Coahoma, Bolivar, Washington, Humphreys, Holmes, Sharkey, Yazoo, Issaquena, Warren, Claiborne, Jefferson, Adams, and Wilkinson Counties. In Louisiana, all the areas north of a line drawn from the east bank of the Mississippi River at the Louisiana-Mississippi border, thence south along the east bank to mile 303.0, thence westerly to the west bank at mile 303.0, thence northerly to the southern boundary of the Old River Lock Structure, thence westerly along the southern bank of the Lower Old River, to the intersection with the Red River, thence westerly and northwesterly along the southern bank of the Red River to the northern most boundary of Red River Parish, thence westerly along the northern boundary of Red River Parish and DeSoto Parish to the Texas-Louisiana Border; including Lasalle, Caldwell, Caddo, Bossier, Webster, Claiborne, Union, Morehouse, West Carroll, East Carroll, Madison, Richland, Ouachita, Lincoln, Jackson, Bienville, Winn, Grant, Franklin, Tensas, Catahoula, and Concordia Parishes; those parts of Avoyelles, Natchitoches, Rapides, and Red River Parishes north of the Red River; and that part of West Feliciana Parish north of the Lower Old River. That part of the Lower Mississippi River below mile 869.0 and above mile 303. All of the Red River below the Arkansas-Oklahoma border.

The new Sector Ohio Valley Inspection Zone, Captain of the Port Zone, and Area of responsibility will contain a sub-zone within its boundary description described below which will be the Marine Safety Unit Pittsburgh sub-zone described in the next paragraph; however, Sector Ohio Valley's boundary starts with all of Kentucky and West Virginia; in Missouri: Perry, Cape Girardeau, Scott, Mississippi and New Madrid Counties; in Tennessee: that portion of Lake County north and west of a line drawn from the Mississippi River at latitude 36°20′ N and longitude 89°32′30″ W due east to Highway 78, thence northeast along Highway 78 to the Kentucky/Tennessee state line, and all other counties in Tennessee except Shelby, Tipton, Lauderdale, Dyer and Obion Counties; in Alabama: Colbert, Lawrence, Morgan, Marshall, Lauderdale, Limestone, Madison, and Jackson Counties; that portion of Pennsylvania south of latitude 41°00′ N and west of longitude 79°00′ W; those parts of Indiana and Ohio south of latitude 41°00′ N; in Illinois: Jackson, Williamson, Saline, Gallatin, Union, Johnson, Pope, Hardin, Alexander, Pulaski, and Massac Counties, and in Randolph County, that part of the Upper Mississippi River below mile 109.9, including both banks; that part of the Lower Mississippi River above mile 869.0.

The new Marine Safety Unit Pittsburgh Inspection Zone, Captain of the Port Zone, and Area of responsibility starts with that portion of Pennsylvania south of latitude 41°00′ N and west of longitude 79°00′ W; in West Virginia: Preston, Monongalia, Marion, Marshall, Ohio, Brooke, and Hancock Counties; in Ohio: Stark, Columbiana, Tuscarawas, Carroll, Harrison, Jefferson, and Belmont Counties, those parts of Summit, Portage, and Mahoning Counties south of latitude 41°00′ N; and that part of the Ohio River, including both banks, above mile 127.2 on the Ohio River, just below the Hannibal Lock and Dam.

The new Marine Safety Office St. Louis (Future Sector Upper Mississippi River) Inspection Zone, Captain of the Port Zone, and Area of Responsibility starts with all of Wyoming except for Sweetwater County; Colorado; North Dakota; South Dakota; Kansas; Nebraska; Iowa; all of Missouri with the exception of Perry, Cape Girardeau, Scott, Mississippi, New Madrid, Dunklin, and Pemiscot Counties; that part of Minnesota south of latitude 46°20′ N; that part of Wisconsin south of latitude 46°20′ N, and west of longitude 90°00′ W; that part of Illinois west of longitude 90°00′ W and north of latitude 41°00′ N; and that part of Illinois south of latitude 41°00′ N, except for Jackson, Williamson, Saline, Gellatin, Union, Johnson, Pope, Hardin, Alexander, Pulaski, and Massac Counties. That part of the Upper Mississippi River above mile 109.9, including both banks, and that part of the Illinois River below latitude 41°00′ N.

These boundary line changes will not affect any of the rights, responsibilities, duties, and authorities of the Commanders over the units described in this regulation and all previous practices and procedures will remain in effect.

Dated: December 29, 2005.
Kevin L. Marshall,
Captain, U.S. Coast Guard, Commander, 8th Coast Guard District, Acting.

[FR Doc. E6-66 Filed 1-6-06; 8:45 am]

BILLING CODE 4910-15-P